DEPARTMENT OF DEFENSE

48 CFR Parts 243, 248, and 252

[DFARS Case 2001-D001]

Defense Federal Acquisition Regulation Supplement; Cancellation of MIL-STD-973, Configuration Management

AGENCY: Department of Defense (DoD).

ACTION: Final rule.

SUMMARY: DoD has issued a final rule amending the Defense Federal Acquisition Regulation Supplement (DFARS) to remove references to a cancelled military standard that prescribed a format for preparation of engineering change proposals.

EFFECTIVE DATE: October 1, 2001.

FOR FURTHER INFORMATION CONTACT: Ms. Susan Schneider, Defense Acquisition Regulations Council, OUSD (AT&L) DP (DAR), IMD 3C132, 3062 Defense Pentagon, Washington, DC 20301-3062. Telephone (703) 602-0326; facsimile (703) 602-0350. Please cite DFARS Case 2001-D001.

SUPPLEMENTARY INFORMATION:

A. Background

This final rule removes the clauses at DFARS 252.243-7000, Engineering Change Proposals, and 252.248-7000, Preparation of Value Engineering Change Proposals, and the corresponding clause prescriptions at DFARS 243.205-70 and 248.270. DoD used these clauses to require submission of engineering change proposals in the format prescribed by MIL-STD-973, Configuration Management. MIS-STD-973 was cancelled without replacement on September 20, 2000. Therefore, this final rule removes the clauses that were based on the requirements of MIL-STD-973. General policy regarding engineering change proposals is removed from DFARS 243.205-70 to a more appropriate location at 243.204-71.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subparts in accordance with 5 U.S.C. 610. Such comments should cite DFARS Case 2001-D001.

C. Paperwork Reduction Act

The Paperwork Reduction Act does not apply because the rule does not impose any information collection requirements that require the approval of the Office of Management and Budget under 44 U.S.C. 3501, et seq.

List of Subjects in 48 CFR Parts 243, 248, and 252

Government procurement.

Michele P. Peterson,
Executive Editor, Defense Acquisition Regulations Council.

Therefore, 48 CFR parts 243, 248, and 252 are amended as follows:

1. The authority citation for 48 CFR parts 243, 248, and 252 continues to read as follows:

Authority: 41 U.S.C. 421 and 48 CFR Chapter 1.

PART 243—CONTRACT MODIFICATIONS

2. Section 243.204-71 is added to read as follows:

243.204-71 Engineering change proposals.

Engineering changes can originate with either the contractor or the Government. In either case, the Government will need detailed information from the contractor for evaluation of the technical, cost, and schedule effects of implementing the change.

243.205-70 [Removed]

3. Section 243.205-70 is removed.

243.205-71 [Redesignated as 243.205-70]

4. Section 243.205-71 is redesignated as 243.205-70.

243.205-72 [Redesignated as 243.205-71]

5. Section 243.205-72 is redesignated as 243.205-71.

PART 248—[REMOVED]

6. Part 248 is removed.

PART 252—SOLICITATION PROVISIONS AND CONTRACT CLAUSES

252.243-7000 [Removed and Reserved]

7. Section 252.243-7000 is removed and reserved.

252.243-7001 [Amended]

8. Section 252.243-7001 is amended in the introductory text by removing “243.205-71” and adding in its place “243.205-70”.

252.243-7002 [Amended]

9. Section 252.243-7002 is amended in the introductory text by removing “243.205-72” and adding in its place “243.205-71”.

252.243-7000 [Removed]

10. Section 252.243-7000 is removed.

[FR Doc. 01-24387 Filed 9-28-01; 8:45 am]

BILLING CODE 5000-04-M